DEPARTMENT OF COMMERCE

United States Patent and Trademark Office

[Docket No. PTO-T-2017-0027]

Notice of Roundtable Related to Fraudulent Solicitations

AGENCY: United States Patent and Trademark Office, Department of Commerce.

ACTION: Notice of public roundtable regarding fraudulent solicitations to trademark owners.

SUMMARY: The United States Patent and Trademark Office (“USPTO”) and its Trademark Public Advisory Committee will host a free public roundtable on fraudulent and misleading solicitations that are directed to trademark holders, to further public awareness of the problem, to provide U.S. Government officials with more information about its scope, and to facilitate a discussion among members of the public about how to address the problem.

DATES: The public roundtable will be held on July 26, 2017, from 2 p.m. to 4 p.m. (EDT). Individuals wishing to speak at the roundtable must complete the on-line registration no later than July 17, 2017 (EDT). Please see ADDRESSES for further instructions.

ADDRESSES: The public roundtable will be held at the United States Patent and Trademark Office, Global Intellectual Property Academy, Madison Building (East), Second Floor, 600 Dulany Street, Alexandria, Virginia 22314, and via webcast at the Midwest Regional Office, 300 River Place Drive, Suite 2900, Detroit, Michigan 48207; the Rocky Mountain Regional Office, 1961 Stout Street, Denver, Colorado 80294; the West Coast Regional Office, 26 S. Fourth Street, San Jose, California 95113; or the Texas Regional Office, 207 South Houston Street, Suite 159, Dallas, Texas 75202.

Roundtable Registration: To register to attend the roundtable, please go to the USPTO Web site (https://www.uspto.gov/learning-and-resources/ip-policy/fraudulent-solicitations-trademark-owners). The agenda will be available a week before the meeting at the same URL. Attendees may also register at the door one half-hour prior to the beginning of the meeting.

Roundtable Speaker Registration: To register to speak at the roundtable, please go to the USPTO Web site (https://www.uspto.gov/learning-and-resources/ip-policy/fraudulent-solicitations-trademark-owners).

All members of the public are encouraged to submit written feedback regarding fraudulent solicitations by electronic mail message via the Internet addressed to tmpolicy@uspto.gov.

FOR FURTHER INFORMATION CONTACT: Requests for additional information regarding registration should be directed to the attention of Hollis Robinson, by telephone at 571-272-9300, or by email at hollis.robinson@uspto.gov. Requests for additional information regarding the topics for discussion at the Fraudulent Solicitations to Trademark Owners Roundtable should be directed to Leigh Lowry, by telephone at 571-272-9300, by email at tmpolicy@uspto.gov, or by postal mail addressed to: Mail Stop OPIA, United States Patent and Trademark Office, P.O. Box 1450, Alexandria, VA 22313-1450, ATTN: Leigh Lowry or Hollis Robinson. Please direct all media inquiries to the Office of the Chief Communications Officer, USPTO, at (571) 272-8400.

SUPPLEMENTARY INFORMATION: Numerous owners of U.S. trademark registrations, as well as applicants for such registrations, have been targeted by unscrupulous parties who extract their names from United States Patent and Trademark Office (“USPTO”) databases and offer them services, often trying to create the impression that they are acting on behalf of the USPTO. In many instances, the services are never performed. In other instances, they are performed in an incorrect manner that puts the registration at risk of cancellation. In addition, inflated fees may be charged for the alleged services.

The USPTO has taken a number of steps to help raise awareness of these schemes. First, it provides information about the problem together with various official documents that it issues to registrants and applicants for registration. In addition, it maintains a Web page that describes the problem (please see https://www.uspto.gov/trademarks-getting-started/non-uspto-solicitations), provides a list of entities that are known to make fraudulent solicitations, and lists an email address (TMFeedback@uspto.gov) through which parties can send suggested additions to the list. Finally, the USPTO also produced a video that highlights the potential harm posed by non-USPTO solicitations, which is available at https://www.uspto.gov/trademarks-getting-started/process-overview/trademark-information-network.

The USPTO has worked closely with other Federal agencies, including the U.S. Department of Justice, the Federal Trade Commission, and the United States Postal Inspection Service, to combat the fraudulent solicitations. Recently, the U.S. Department of Justice secured five criminal convictions in federal court in California related to one of these scams, including convictions on charges of mail fraud, money laundering, conspiracy, and other crimes, all arising out of a scheme that defrauded more than 4,400 trademark owners out of $1.66 million. The USPTO continues to provide its full support to U.S. law enforcement officials working on this matter.

To provide U.S. Government officials with more information about the scope of this problem, and to continue to raise public awareness about it, the USPTO encourages parties who have been victimized by these scams, or attorneys whose clients have been victimized by them, to speak at the roundtable. The USPTO has invited the U.S. Department of Justice, U.S. Postal Inspection Service, Federal Trade Commission, U.S. Customs and Border Protection, and the Small Business Administration to hear about experiences with these scams and offer their insights.

The roundtable will provide an opportunity for interested parties to share ideas about how to address the problem. The USPTO has invited various intellectual property law organizations to participate, including the Intellectual Property section of the American Bar Association (ABA), the Association of Corporate Counsel (ACC), the American Intellectual Property Law Association (AIPLA), the Federation Internationale des Conseils en Propriete Intellectuelle (FICPI-US), the Intellectual Property Owners Association (IPO), and the International Trademark Association (INTA). The USPTO encourages all interested members of the public to attend.

Requests To Speak at the Roundtable: Individuals wishing to speak at the roundtable must complete the on-line registration no later than July 17, 2017, and include their name, contact information (telephone number and email address), the organization(s) the person represents, if any, the topics they wish to address, and the approximate length of the presentation. To ensure a balanced array of views, there is the possibility that not all persons who wish to make a presentation will be able to do so given time constraints; however, the USPTO will do its best to try to accommodate as many as possible. Selected speakers will be notified thereafter. Nonetheless, all members of the public are encouraged to submit written feedback regarding fraudulent solicitations by electronic mail message via the Internet addressed to tmpolicy@uspto.gov.

Parties who have been selected to speak may do so either at USPTO main campus in Alexandria, Virginia, or via webcast at one of the following USPTO Regional Offices: the Midwest Regional Office, 300 River Place Drive, Suite 2900, Detroit, Michigan 48207; the Rocky Mountain Regional Office, 1961 Stout Street, Denver, Colorado 80294; the West Coast Regional Office, 26 S. Fourth Street, San Jose, California 95113; or the Texas Regional Office, 207 South Houston Street, Suite 159, Dallas, Texas 75202. Please check the appropriate location when completing the on-line registration.

Public Availability of Transcripts: The transcript of the roundtable will be made available for public inspection upon request at the Office of the Commissioner for Trademarks, located at 600 Dulany Street, Madison East Building, Tenth Floor, Alexandria, Virginia, and via address: http://www.uspto.gov.

Accessibility for People With Disabilities: The roundtable meeting will be physically accessible to people with disabilities. All major entrances to the USPTO Madison Building (East) at 600 Dulany Street, Alexandria, Virginia 22314 are accessible to people with disabilities. Individuals requiring accommodation, such as sign language interpretation or other ancillary aids, should communicate their needs to Hollis Robinson at the Office of Policy and International Affairs, by telephone at (571) 272-9300, by email at hollis.robinson@uspto.gov, or by postal mail addressed to: Mail Stop OPIA, United States Patent and Trademark Office, P.O. Box 1450, Alexandria, VA 22313-1450, ATTN: Hollis Robinson, at least seven (7) business days prior to the roundtable.

Dated: June 23, 2017.
Joseph Matal,
Performing the Functions and Duties of the Under Secretary of Commerce for Intellectual Property and Director of the United States Patent and Trademark Office.

[FR Doc. 2017-13612 Filed 6-28-17; 8:45 am]

BILLING CODE 3510-16-P